DEPARTMENT OF HOMELAND SECURITY

33 CFR Part 151

[USCG-2004-19621]

RIN 1625-AA89

Dry Cargo Residue Discharges in the Great Lakes

AGENCY: Coast Guard, DHS.

ACTION: Advanced notice of proposed rulemaking; request for information.

SUMMARY: The Coast Guard announces that it has begun a rulemaking project for the regulation of non-hazardous and non-toxic dry cargo residue discharges by vessels operating on the Great Lakes. As part of the rulemaking project, the Coast Guard will conduct an environmental assessment. In order to conduct this environmental assessment, the Coast Guard intends to determine the current status of dry cargo operations on the Great Lakes. The Coast Guard requests information in response to any of these matters.

DATES: All relevant information and related material must reach the Docket Management Facility on or before March 28, 2005.

ADDRESSES: You may submit comments identified by Coast Guard docket number USCG-2004-19621 to the Docket Management Facility at the U.S. Department of Transportation. To avoid duplication, please use only one of the following methods:

(1) Web Site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

FOR FURTHER INFORMATION CONTACT: Lieutenant Commander Mary Sohlberg, U.S. Coast Guard, Environmental Standards Division, telephone: 202-267-0713, e-mail: msohlberg@comdt.uscg.mil. If you have questions on viewing the docket, call Andrea M. Jenkins, Program Manager, Docket Operations, telephone: 202-366-0271.

SUPPLEMENTARY INFORMATION:

Background and Purpose

In a related non-rulemaking docket (USCG-2003-16814), the Coast Guard previously published two notices on the subject of non-hazardous and non-toxic dry cargo residue discharges by vessels operating on the Great Lakes (“dry cargo discharges”; see 69 FR 57711, Sep. 27, 2004; 69 FR 1994, Jan. 13, 2004). At present, some incidental dry cargo discharges are allowed under the Coast Guard?s Interim Enforcement Policy (IEP), which the Coast Guard and Maritime Transportation Act of 2004 (“the Act”) continues until September 30, 2008. Unless we issue new regulations in accordance with the rulemaking authority provided by the Act, those discharges will be prohibited after September 30, 2008.

The Act requires the Coast Guard to begin a regulatory environmental assessment not later than November 7, 2004. We met that requirement on September 29, 2004.

A first step in the environmental assessment is to collect and examine information on current dry cargo residue discharge operations in the Great Lakes. We will compare that information to the “Study of Dry Cargo Residue in the Great Lakes” that we compiled in 2000, which is docketed in USCG-2003-16814. This will allow us to see if the 2000 data are still valid or if dry cargo residue discharge operations on the Great Lakes have changed, and if any trends can be discerned.

The information we want to collect includes what types of vessels engage in cargo residue discharge, where they discharge, what they discharge, how they discharge, and how much they discharge. We expect to complete this study during the summer of 2005, and complete the rulemaking before the IEP expires in 2008. Therefore, we ask that you provide any relevant information on dry cargo residue discharges in the Great Lakes (see DATES).

Once we have collected and reviewed information regarding dry cargo residue discharges in the Great Lakes, we will formulate a proposed regulatory action and alternatives for an environmental assessment. Under the environmental assessment, we presently plan to focus primarily on toxicity data to make sure any residue discharges we might allow are neither hazardous nor toxic, and assess the environmental impact of allowing some incidental discharges to continue.

Under the National Environmental Policy Act, the Coast Guard has initiated an environmental assessment in which we will consider alternative courses of action, including a “no action” alternative, which in this case means declining to issue a regulation and letting the policy expire, thus prohibiting incidental discharges of dry cargo residues. Other alternatives might include continuing the current policy, or modifying it as to the quantities or locations of incidental discharges, or engineering alternatives. We welcome any suggestions you may have on what alternatives we should consider.

We will continue to issue additional Federal Register notices to keep you informed and to invite your continued participation, as we proceed with the environmental assessment and regulatory processes.

Request for Information

We ask that you submit your comments, or other relevant information, on dry cargo residue discharges in the Great Lakes. As discussed in “Background and Purpose”, we are particularly interested in information that will help us determine what types of vessels perform these discharges, where they discharge, what they discharge, and how much they discharge. We will consider all comments and information received during the comment period.

Submissions should include:

• Docket number USCG-2004-19621.

• Your name and address.

• Your reasons for making each comment or for bringing information to our attention.

Submit comments or material using only one of the following methods:

• Electronic submission to the Docket Management Facility's Docket Management System (DMS) (http://dms.dot.gov).

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the DMS Web site (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions in person, at the Docket Management Facility (see ADDRESSES), or electronically on the DMS Web site.

Dated: December 13, 2004.
Joseph J. Angelo,
Director of Standards, Marine Safety, Security & Environmental Protection.

[FR Doc. 04-28227 Filed 12-23-04; 8:45 am]

BILLING CODE 4910-15-P